DEPARTMENT OF LABOR

Employment and Training Administration

[TA-W-50,320]

American Bag Corporation, Stearns Plant, Stearns, KY; Notice of Negative Determination Regarding Application for Reconsideration

By application of January 23, 2003, a company official requested administrative reconsideration of the Department's negative determination regarding eligibility for workers and former workers of the subject firm to apply for Trade Adjustment Assistance (TAA). The denial notice was signed on January 3, 2003, and published in the Federal Register on February 4, 2003 (67 FR 5654).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at American Bag Corporation, Stearns Plant, Stearns, Kentucky engaged in the production of airbags, was denied because criterion (1) was not met. Employment did not decline in the relevant period, but in fact increased from January through November of 2002 relative to the same time period in 2001.

In the request for reconsideration, the company official confirms that there were no employment declines in the relevant period. However, he also asserts that the reason for this was that workers laid off from the Stearns facility were replaced with workers from American Bag Corporation, Winfield, Kentucky (workers at this facility are currently certified for trade adjustment assistance through August 29, 2003). The official concludes that, on a corporate wide level, employment levels for workers engaged in production of airbags did decline in the relevant period.

When assessing eligibility for trade adjustment assistance, the Department exclusively considers the relevant employment data for the facility where the petitioning worker group was employed. Thus corporate employment levels, in this context, are irrelevant. As employment levels at the subject facility did not decline in the relevant period, criterion (1) has not been met.

The company official also asserts that the major customer of the subject firm imported competitive airbags.

In order for import data to be considered, employment declines must have occurred at the subject facility in the relevant period. As criterion (1) has not been met for the petitioning worker group, imports are irrelevant.

Conclusion

After review of the application and investigative findings, I conclude that there has been no error or misinterpretation of the law or of the facts which would justify reconsideration of the Department of Labor's prior decision. Accordingly, the application is denied.

Signed in Washington, DC, this 19th day of March 2003.
Edward A. Tomchick,
Director, Division of Trade Adjustment Assistance.

[FR Doc. 03-8355 Filed 4-4-03; 8:45 am]

BILLING CODE 4510-30-P